DEPARTMENT OF TRANSPORTATION

Federal Aviation Administration

14 CFR Part 39

[Docket No. FAA-2022-0804; Project Identifier MCAI-2022-00081-R; Amendment 39-22158; AD 2022-18-07]

RIN 2120-AA64

Airworthiness Directives; Airbus Helicopters

AGENCY: Federal Aviation Administration (FAA), DOT.

ACTION: Final rule.

SUMMARY: The FAA is adopting a new airworthiness directive (AD) for all Airbus Helicopters Model AS332C, AS332C1, AS332L, and AS332L1 helicopters. This AD was prompted by review of maintenance instructions that showed conflicting methods of recording torque cycles for certain parts. This AD requires recalculating the torque cycles of certain parts and updating log cards; removing certain other parts from service; and applying an operational restriction on certain parts, as specified in a European Union Aviation Safety Agency (EASA) AD, which is incorporated by reference. This AD also requires incorporating the re-calculated life limits into existing maintenance records. The FAA is issuing this AD to address the unsafe condition on these products.

DATES: This AD is effective October 13, 2022.

The Director of the Federal Register approved the incorporation by reference of certain publications listed in this AD as of October 13, 2022.

ADDRESSES: For EASA material that is incorporated by reference (IBR) in this final rule, contact EASA, Konrad-Adenauer-Ufer 3, 50668 Cologne, Germany; telephone +49 221 8999 000; email ADs@easa.europa.eu; internet www.easa.europa.eu. You may find the EASA material on the EASA website at https://ad.easa.europa.eu. For Airbus Helicopters service information identified in this final rule, contact Airbus Helicopters, 2701 North Forum Drive, Grand Prairie, TX 75052; telephone (972) 641-0000 or (800) 232-0323; fax (972) 641-3775; or at https://www.airbus.com/helicopters/services/technical-support.html. You may view this material at the FAA, Office of the Regional Counsel, Southwest Region, 10101 Hillwood Pkwy., Room 6N-321, Fort Worth, TX 76177. For information on the availability of this material at the FAA, call (817) 222-5110. It is also available in the AD docket at https://www.regulations.gov by searching for and locating Docket No. FAA-2022-0804.

Examining the AD Docket

You may examine the AD docket at https://www.regulations.gov by searching for and locating Docket No. FAA-2022-0804; or in person at Docket Operations between 9 a.m. and 5 p.m., Monday through Friday, except Federal holidays. The AD docket contains this final rule, the EASA AD, any comments received, and other information. The address for Docket Operations is U.S. Department of Transportation, Docket Operations, M-30, West Building Ground Floor, Room W12-140, 1200 New Jersey Avenue SE, Washington, DC 20590.

FOR FURTHER INFORMATION CONTACT: Kristi Bradley, Program Manager, COS Program Management Section, Operational Safety Branch, Compliance & Airworthiness Division, FAA, 10101 Hillwood Pkwy., Fort Worth, TX 76177; telephone (817) 222-5110; email kristin.bradley@faa.gov.

SUPPLEMENTARY INFORMATION:

Background

EASA, which is the Technical Agent for the Member States of the European Union, has issued EASA AD 2022-0012, dated January 24, 2022 (EASA AD 2022-0012), to correct an unsafe condition for Airbus Helicopters (AH), formerly Eurocopter, Eurocopter France, Aerospatiale, Model AS 332 C, AS 332 C1, AS 332 L, and AS 332 L1 helicopters.

The FAA issued a notice of proposed rulemaking (NPRM) to amend 14 CFR part 39 by adding an AD that would apply to all Airbus Helicopters Model AS332C, AS332C1, AS332L, and AS332L1 helicopters. The NPRM published in the Federal Register on June 29, 2022 (87 FR 38689). The NPRM was prompted by review of maintenance instructions that showed conflicting methods of recording torque cycles for certain parts. The NPRM proposed to require recalculating the torque cycles of certain parts and updating log cards; removing certain other parts from service; and applying an operational restriction on certain parts, as specified in EASA AD 2022-0012. The NPRM also proposed to require incorporating the re-calculated life limits into existing maintenance records.

The FAA is issuing this AD to address under-calculated torque cycle accumulations and prevent a part from remaining in service beyond its fatigue life. See EASA AD 2022-0012 for additional background information.

Discussion of Final Airworthiness Directive

Comments

The FAA received no comments on the NPRM or on the determination of the costs.

Conclusion

These helicopters have been approved by EASA and are approved for operation in the United States. Pursuant to the FAA's bilateral agreement with the European Union, EASA has notified the FAA about the unsafe condition described in its AD. The FAA reviewed the relevant data and determined that air safety requires adopting this AD as proposed. Accordingly, the FAA is issuing this AD to address the unsafe condition on these helicopters.

Related Service Information Under 1 CFR Part 51

EASA AD 2022-0012 requires recalculating the torque cycles of certain affected parts, updating log cards, and replacing those parts before exceeding their recalculated service life limits. EASA AD 2022-0012 also requires removing certain other affected parts from service and prohibits installing those parts. Lastly, EASA AD 2022-0012 applies an operational restriction to certain affected parts.

The FAA reviewed Airbus Helicopters Alert Service Bulletin (ASB) No. AS332-01.00.76, Revision 1, dated March 8, 2022 (ASB AS332-01.00.76, Rev 1). This service information specifies procedures for determining the corrected accumulated torque cycles and updating the log cards for certain parts, new life limits expressed in torque cycles, and new procedures for counting torque cycles.

This material is reasonably available because the interested parties have access to it through their normal course of business or by the means identified in the ADDRESSES section.

ADs Mandating Airworthiness Limitations

The FAA has previously mandated airworthiness limitations by mandating each airworthiness limitation task (e.g., inspections and replacements (life limits)) as an AD requirement or issuing ADs that require revising the airworthiness limitations section (ALS) of the existing maintenance manual or instructions for continued airworthiness to incorporate new or revised inspections and life limits. This AD, however, requires operators to incorporate into maintenance records required by 14 CFR 91.417(a)(2) or 135.439(a)(2), as applicable for your helicopter, the requirements (airworthiness limitations) specified in service information required by a civil aviation authority AD. The FAA does not intend this as a substantive change. For these ADs, the ALS requirements for operators are the same but are complied with differently. Requiring the incorporation of the new ALS requirements into the maintenance records, rather than requiring individual ALS tasks (e.g., repetitive inspections and replacements), requires operators to record AD compliance once after updating the maintenance records, rather than after every time the ALS task is completed.

Differences Between This AD and the EASA AD

EASA AD 2022-0012 allows using Airbus Helicopters ASB No. AS332-01.00.76, Revision 0, dated December 16, 2021, for corrective actions; whereas this AD does not and instead requires using ASB AS332-01.00.76, Rev 1. EASA AD 2022-0012 requires replacing each affected part before exceeding its re-calculated life limit; whereas this AD requires, within 30 days after the effective date of the AD, incorporating the re-calculated life limits into maintenance records required by 14 CFR 91.417(a)(2) or 135.439(a)(2), as applicable for your helicopter.

Costs of Compliance

The FAA estimates that this AD affects 7 helicopters of U.S. Registry. Labor rates are estimated at $85 per work-hour. Based on these numbers, the FAA estimates the following costs to comply with this AD.

Recalculating the torque cycles and updating maintenance records takes about 4 work-hours for an estimated cost of about $340 per helicopter and $2,380 for the U.S. fleet. Incorporating actions and associated thresholds and intervals, including life limits and maintenance tasks, into maintenance records, takes about 2 work-hours for an estimated cost of $170 per helicopter and $1,190 for the U.S. fleet. Replacing a main rotor shaft takes about 40 work-hours and parts cost about $175,684 for an estimated cost of $179,084. Replacing a main gearbox flexible mounting plate support takes about 80 work-hours and parts cost about $57,457 for an estimated cost of $64,257.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2022-18-07 Airbus Helicopters: Amendment 39-22158; Docket No. FAA-2022-0804; Project Identifier MCAI-2022-00081-R.

(a) Effective Date

This airworthiness directive (AD) is effective October 13, 2022.

(b) Affected ADs

None.

(c) Applicability

This AD applies to all Airbus Helicopters Model AS332C, AS332C1, AS332L, and AS332L1 helicopters, certificated in any category.

(d) Subject

Joint Aircraft Service Component (JASC) Code: 1400, Miscellaneous Hardware.

(e) Unsafe Condition

This AD was prompted by review of maintenance instructions that showed conflicting methods of recording torque cycles for certain parts. The FAA is issuing this AD to address under-calculated torque cycle accumulations and prevent a part from remaining in service beyond its fatigue life. The unsafe condition, if not addressed, could result in failure of a part and subsequent loss of control of the helicopter.

(f) Compliance

Comply with this AD within the compliance times specified, unless already done.

(g) Requirements

Except as specified in paragraphs (h) and (i) of this AD: Comply with all required actions and compliance times specified in, and in accordance with, European Union Aviation Safety Agency (EASA) AD 2022-0012, dated January 24, 2022 (EASA AD 2022-0012).

(h) Exceptions to EASA AD 2022-0012

(1) Where EASA AD 2022-0012 defines “the ASB” as “AH Alert Service Bulletin (ASB) AS332-01.00.76,” for this AD replace that definition with “Airbus Helicopters Alert Service Bulletin No. AS332-01.00.76, Revision 1, dated March 8, 2022.”

(2) Where EASA AD 2022-0012 references flight hours (FH) and the service information referenced in EASA AD 2022-0012 specifies life limit thresholds in terms of FH, this AD requires using total hours time-in-service.

(3) Where EASA AD 2022-0012 refers to its effective date, this AD requires using the effective date of this AD.

(4) This AD does not mandate paragraph (3) of EASA AD 2022-0012; instead, for this AD, within 30 days after the effective date of this AD, incorporate into maintenance records required by 14 CFR 91.417(a)(2) or 135.439(a)(2), as applicable for your helicopter, the actions and associated thresholds and intervals, including life limits and maintenance tasks, specified in the Appendix, section 4., of Airbus Helicopters Alert Service Bulletin No. AS332-01.00.76, Revision 1, dated March 8, 2022. After the action required by this paragraph has been done, no alternative actions and associated thresholds and intervals, including life limits, may be used unless the actions or intervals are approved as an alternative method of compliance (AMOC) in accordance with the procedures specified in paragraph (k)(1) of this AD.

(5) This AD does not mandate compliance with the “Remarks” section of EASA AD 2022-0012.

(i) No Reporting Requirement

Although the service information referenced in EASA AD 2022-0012 specifies to submit certain information to the manufacturer, this AD does not include that requirement.

(j) Special Flight Permit

Special flight permits are prohibited.

(k) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (l) of this AD. Information may be emailed to: 9-AVS-AIR-730-AMOC@faa.gov.

(2) Before using any approved AMOC, notify your appropriate principal inspector, or lacking a principal inspector, the manager of the local flight standards district office/certificate holding district office.

(l) Related Information

For more information about this AD, contact Kristi Bradley, Program Manager, COS Program Management Section, Operational Safety Branch, Compliance & Airworthiness Division, FAA, 10101 Hillwood Pkwy., Fort Worth, TX 76177; telephone (817) 222-5110; email kristin.bradley@faa.gov.

(m) Material Incorporated by Reference

(1) The Director of the Federal Register approved the incorporation by reference of the service information listed in this paragraph under 5 U.S.C. 552(a) and 1 CFR part 51.

(2) You must use this service information as applicable to do the actions required by this AD, unless this AD specifies otherwise.

(i) Airbus Helicopters Alert Service Bulletin No. AS332-01.00.76, Revision 1, dated March 8, 2022.

(ii) European Union Aviation Safety Agency (EASA) AD 2022-0012, dated January 24, 2022.

(3) For Airbus Helicopters service information identified in this AD, contact Airbus Helicopters, 2701 North Forum Drive, Grand Prairie, TX 75052; telephone (972) 641-0000 or (800) 232-0323; fax (972) 641-3775; or at https://www.airbus.com/helicopters/services/technical-support.html. For EASA AD 2022-0012, contact EASA, Konrad-Adenauer-Ufer 3, 50668 Cologne, Germany; telephone +49 221 8999 000; email ADs@easa.europa.eu; internet www.easa.europa.eu. You may find the EASA material on the EASA website at https://ad.easa.europa.eu.

(4) You may view this service information at the FAA, Office of the Regional Counsel, Southwest Region, 10101 Hillwood Pkwy., Room 6N-321, Fort Worth, TX 76177. For information on the availability of this material at the FAA, call (817) 222-5110. This material may be found in the AD docket at https://www.regulations.gov by searching for and locating Docket No. FAA-2022-0804.

(5) You may view this material that is incorporated by reference at the National Archives and Records Administration (NARA). For information on the availability of this material at NARA, email fr.inspection@nara.gov, or go to: https://www.archives.gov/federal-register/cfr/ibr-locations.html.

Issued on August 19, 2022.
Christina Underwood,
Acting Director, Compliance & Airworthiness Division, Aircraft Certification Service.

[FR Doc. 2022-19257 Filed 9-7-22; 8:45 am]

BILLING CODE 4910-13-P